DEPARTMENT OF HEALTH AND HUMAN SERVICES

Health Resources and Services Administration

Advisory Committee on Infant Mortality: Change in Meeting Dates

ACTION: Notice of change in meeting dates.

SUMMARY: Health Resources and Services Administration is issuing this notice to change the meeting dates for the Notice is hereby given of a change in the meeting of the Secretary's Advisory Committee on Infant Mortality (SACIM). The meeting was originally scheduled for July 13-14, 2015 and was published in the Federal Register on June 26, 2015, 80 FR 123 (page 36826).

DATES: The meeting dates have changed to August 10, 2015, starting at 8:30 a.m. (EST) and ending at 5 p.m. (EST) and August 11, 2015, starting at 8:30 a.m. (EST) and ending at 3:30 p.m. (EST).

The meeting remains virtual via webinar and phone using the following links: URL: https://hrsa.connectsolutions.com/sacim_seminar_200/. Call-In Number: 1.888.942.8170. Passcode: 3494113.

For more details, please visit the ACIM Web site: http://www.hrsa.gov/advisorycommittees/mchbadvisory/InfantMortality/index.html. The meeting is open to the public with attendance limited to availability of call-in lines.

FOR FURTHER INFORMATION CONTACT: Anyone requiring information regarding the Committee should contact Michael C. Lu, M.D., M.P.H., Executive Secretary, ACIM, Health Resources and Services Administration, Room 18 W, Parklawn Building, 5600 Fishers Lane, Rockville, Maryland 20857, Telephone: (301) 443-2170.

Individuals who are submitting public comments or who have questions regarding the meeting and location should contact David S. de la Cruz, Ph.D., M.P.H., SACIM Designated Federal Official, HRSA, Maternal and Child Health Bureau, telephone: (301) 443-0543, email: David.delaCruz@hrsa.hhs.gov. Public comments must be submitted to Dr. de la Cruz by email no later than August 3, 2015.

Jackie Painter,
Director, Division of the Executive Secretariat.

[FR Doc. 2015-18179 Filed 7-23-15; 8:45 am]

BILLING CODE 4165-15-P